Proclamation 10680 of November 30, 2023

World AIDS Day, 2023

By the President of the United States of America

A Proclamation

On World AIDS Day, my message is simple: Let us finish the fight.

Since recognizing the first World AIDS Day 35 years ago, we have made enormous progress in preventing, detecting, and treating HIV—greatly reducing annual HIV diagnoses and transmission. But despite these advancements, about 39 million people continue to live with HIV, including more than one million people in the United States. Far too often, people living with HIV face discrimination that prevents them from accessing the care they need. So, as we reflect on our progress today, we must also come together to renew our promise to end the HIV/AIDS epidemic.

At home, my Administration has taken historic steps to achieve this goal. During my first year in office, I reestablished the White House Office of National AIDS Policy and launched a new National HIV/AIDS Strategy—a roadmap for using innovative community-driven solutions to end the HIV/AIDS epidemic in the United States by 2030. This year, my Administration also ended the disgraceful practice of banning gay and bisexual men from donating blood. We continue to work with State and community leaders to repeal or reform so-called HIV criminalization laws, which wrongly punish people for exposing others to HIV. I have asked the Congress for $850 million for the Department of Health and Human Services' Ending the HIV Epidemic Initiative to aggressively reduce new HIV cases, fight the stigma that stops many people from getting care, and increase access to pre-exposure prophylaxis (PrEP)—a critical drug that can help prevent the spread of HIV.

We are also focused on ending HIV/AIDS as a public health threat worldwide by 2030 under the bipartisan President's Emergency Plan for AIDS Relief (PEPFAR). PEPFAR has reduced transmissions, expanded testing, and saved more than 25 million lives in over 50 partner countries over the last two decades. Further, PEPFAR is focusing on forging a future where every HIV infection is prevented, every person has access to treatment, and every generation can live free from the stigma that too often surrounds HIV. My Administration is committed to working with the Congress to pass a clean PEPFAR reauthorization bill to extend this lifesaving bipartisan program for 5 years and end HIV/AIDS by 2030.

We are within striking distance of eliminating HIV-transmission. We have the science. We have the treatments. Most of all, we have each other. On this 35th World AIDS Day—let us honor all the families who have lost a loved one to this disease and all the people currently living with HIV/AIDS. Let us remember the activists, scientists, doctors, and caregivers who have never given up in the fight against the HIV/AIDS epidemic. Let us recommit to finishing this fight—together.

NOW, THEREFORE, I, JOSEPH R. BIDEN JR., President of the United States of America, by virtue of the authority vested in me by the Constitution and the laws of the United States, do hereby proclaim December 1, 2023, as World AIDS Day. I urge the Governors of the United States and its Commonwealths and Territories, the appropriate officials of all units of government, and the American people to join the HIV community in activities to remember those who have lost their lives to AIDS and to provide support, dignity, and compassion to people with HIV.

IN WITNESS WHEREOF, I have hereunto set my hand this thirtieth day of November, in the year of our Lord two thousand twenty-three, and of the Independence of the United States of America the two hundred and forty-eighth.

[FR Doc. 2023-26841

Filed 12-4-23; 11:15 am]

Billing code 3395-F4-P